DEPARTMENT OF TRANSPORTATION

Coast Guard

33 CFR Part 165

[COTP MIAMI 00-015]

RIN 2115-AA97

Safety Zone: OpSail Miami 2000, Port of Miami.

AGENCY: Coast Guard, DOT.

ACTION: Temporary final rule.

SUMMARY: The Coast Guard is establishing temporary regulations in the Port of Miami for OpSail Miami 2000 activities. This action is necessary to provide for the safety of life and property on navigable waters during OpSail Miami 2000. This action will restrict vessel traffic in portions of the Port of Miami.

DATES: This rule is effective from 9 p.m. Eastern Daylight Time (EDT) on June 9, 2000 and terminates at 4 p.m. EDT on June 10, 2000.

ADDRESSES: Coast Guard Marine Safety Office Miami maintains the public docket for this rulemaking. Documents indicated in this preamble as being available in the docket, are available for inspection or copying at room 201, Coast Guard Marine Safety Office Miami, between 8 a.m. and 3 p.m., EDT Monday through Friday, except Federal holidays.

FOR FURTHER INFORMATION CONTACT: Lieutenant Joseph Boudrow, Port Management and Response Department, Coast Guard Marine Safety Office Miami, (305) 535-8705.

SUPPLEMENTARY INFORMATION:

Regulatory Information

On December 17, 1999, the Coast Guard published an advanced notice of proposed rulemaking (ANPRM), and on March 17, 2000, the Coast Guard published a notice of proposed rulemaking (NPRM) entitled OPSAIL 2000 in the Federal Register (64 FR 70650 and 65 FR 14502). No comments were received during either comment period. No public hearing was requested and none was held.

Under 5 U.S.C. 553(d)(3), the Coast Guard finds that good cause exists for making this rule effective less than 30 days after publication in the Federal Register. Updated information regarding the fireworks display was recently received from the sponsor. Further, the proposed rule was well publicized in the ANPRM and the NPRM, and the event will be further publicized throughout the local community by the event sponsor.

Background and Purpose

The temporary regulations are for OpSail Miami 2000 events scheduled to be held in portions of the Port of Miami over the period of June 6-10, 2000. This rule will provide for the safety of life and property on navigable waters during OpSail Miami 2000 events on June 9, 2000 and June 10, 2000.

Discussion of Rule

OpSail Miami 2000, Inc., is sponsoring OpSail Miami 2000 activities which consist of the arrival, display, and departure parade of numerous large U. S. and foreign flagged sail vessels. A fireworks display is planned for the evening prior to the final day of the sail vessel visit. Currently, approximately 20 Class A (175 feet or larger in length) and 20 smaller Class B (100 feet up to 175 feet) and C (up to 100 feet) sail vessels are expected to participate in OpSail Miami 2000.

Participant sail vessels will begin arriving in the Port of Miami on June 6, 2000 and will moor alongside Dodge Island within the Port of Miami. These vessels will be open to the public during certain hours between June 7 and June 9, 2000. On June 9, 2000, fireworks displays will be conducted commencing approximately 9:00 p.m. EDT from the orchestra vessel POINT COUNTERPOINT II, a barge anchored in the turning basin at the west end of Main Channel, and the Watson Island bridge structure. On June 10, 2000, the sail vessels will make their departure from the Port of Miami in a parade commencing approximately 12 noon EDT and ending approximately 4 p.m. EDT. Participant sail vessels will proceed under auxiliary power from their moorings to the turning basin at the west end of the Main Channel. From the turning basin, they will proceed under auxiliary power in 300 to 500 yard intervals in a ocean-bound direction along the Main Channel, thence along Government Cut, thence along Bar Cut, thence along Outer Bar Cut, to the vicinity of Miami Lighted Bouy M (Light List Number (LLNR) 10455-895), located at 25 degrees, 46.0 minutes North latitude, 080 degrees, 05.0 minutes West longitude. The area of Miami Lighted Buoy M is the termination point for pilotage. As pilots disembark their vessels, the sail vessels will parade northward off the coastline, under sail, to the parade termination point in the general vicinity of the entrance to Port Everglades, Florida.

Waterborne spectator areas have been designated by the event sponsor to be on either side of Bar Cut and Outer Bar Cut in the open ocean. These areas will be delineated by lines of marker floats placed by the sponsor. The marker floats will be round balls, orange in color, and spaced approximately 200 yards apart. They will be placed 100 yards out from the aids to navigation that mark each side of the channel. Spectator craft will be expected to remain behind the marker float lines for the duration of the parade.

Because of the number of the sail vessels, fireworks displays, and the large number of spectator watercraft expected during the parade, the Coast Guard is establishing regulations for the creation of temporary safety zones and vessel movement controls in portions of the Port of Miami and its channels affected by these events. The regulations will be in effect on June 9 and 10, 2000. The vessel congestion due to the large number of participant and spectator vessels poses a significant threat to the safety of life and property. The Coast Guard has determined this rulemaking is necessary to ensure the safety of life and property on the navigable waters of the United States within portions of the Port of Miami affected by this event.

Regulated Areas

The Coast Guard is establishing temporary safety zones for fireworks displays on June 9, 2000 and the Parade of Sail on June 10, 2000. The safety zone for June 9, 2000 shall include all waters within 100 yards of the orchestra vessel POINT COUNTERPOINT II, and all waters bounded on the north by the Venetian Causeway West drawbridge, a line drawn from the southwest corner of Biscayne Island to the northwest corner of Watson Island, and a line drawn from the southwest corner of Watson Island near the seaplane ramp to the northeast corner of the American Airlines Arena property water frontage.

The safety zone for the June 10, 2000, Parade of Sail shall include all waters in the Port of Miami within the turning basin at the west end of Main Channel bounded by the bridges connecting Dodge Island and Watson Island to the mainland, the Main Channel, Lummus Island Cut east of a line drawn northward from the west end of Fisher Island, Government Cut, Bar Cut, Outer Bar Cut, and 100 yards on either side of the Bar Cut and Outer Bar Cut short range navigational aids, seaward to Miami Lighted Buoy M (LLNR 10455-895).

Entry into these safety zones by non-participating vessels will be prohibited. The Coast Guard expects many spectator craft for this millennium event. These craft will be allowed to view the Parade of Sail vessels from viewing areas on either side of Bar Cut and Outer Bar Cut. These areas will delineated by marker floats placed by the sponsor of the event.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

Although the rule prohibits all non-parade related traffic in the area of the temporary safety zone on Saturday, June 10, 2000, the effect of this regulation will not be significant for the following reasons: the regulation will be in effect for less than 6 hours; the maritime community will receive extensive advance notices through Local Notices to Mariners, facsimile, and marine information broadcasts, maritime association meetings, and Miami area newspapers; and specific viewing areas will be marked for spectator vessels.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. We received no comments on this rule from small entities. However, this rule would affect the following entities, some of which might be small entities: the owners or operators of vessels intending to transit those portions of the Port of Miami during the two periods of safety zone enforcement. These regulations would not have a significant economic impact on a substantial number of small entities for the following reasons. Although these regulations would apply to a substantial portion of the Port of Miami, the periods of the regulatory enforcement will be of short duration. Before the effective periods, the Coast Guard will make notifications to the public via mailings, facsimilies, the Local Notice to Mariners, and use of the sponsor Internet site. In addition, OpSail Miami 2000, Inc., the sponsoring organization, is planning to publish information of the event in local newspapers, pamphlets, and television and radio broadcasts.

Assistance for Small Entities

Under section 213(a) of the Small Business Regulatory Enforcement Fairness Act of 1996 (Pub. L. 104-121), we will assist small entities in understanding this proposed rule so that they can better evaluate its effects on them and participate in the rulemaking. If the rule would affect your small business, organization, or governmental jurisdiction and you have questions concerning its provisions or options for compliance, please contact Lieutenant Joe Boudrow, Coast Guard Marine Safety Office Miami at (305) 535-8705.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose on unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

The Coast Guard has analyzed this rule under E.O. 13045, Protection of Children from Environmental Health Risks and Safety Risks. This rule is not an economically significant rule and does not concern an environmental risk to health or risk to safety that may disproportionately affect children.

Environment

We considered the environmental impact of this action and have determined under Figure 2-1, paragraph 34(g) of Commandant Instruction M16475.1C, that this rule is categorically excluded from further environmental documentation. A Categorical Exclusion Determination is available in the docket where indicated under ADDRESSES. By controlling vessel traffic during the event, this rule is intended to minimize environmental impacts of increased vessel traffic during the parade of sail.

List of Subjects in 33 CFR Part 165

Harbors, Marine Safety, Navigation (water), Reporting and recordkeeping requirements, Security measures, Waterways.

Temporary Regulations

For the reasons discussed in the preamble, the Coast Guard amends 33 CFR Part 165, as follows:

PART 165—[AMENDED]

1. The authority citation for Part 165 continues to read as follows:

Authority: 33 U.S.C. 1231; 50 U.S.C. 191; 33 CFR 1.05-1(g), 6.04-1, 6.04-6, and 160.5; 49 CFR 1.46.

2. A temporary § 165.T 07-015 is added to read as follows:

§ 165.T07-015 Safety zones; Miami, Florida.

(a) Regulated areas. (1) Fireworks area. (i) Location. All waters within 100 yards of the M/V POINT COUNTERPOINT II; and, all waters within an area bounded on the north by the Venetian Causeway West drawbridge, a line drawn from the southwest corner of Biscayne Island to the northwest corner of Watson Island, and a line drawn from the southwest corner of Watson Island near the seaplane ramp to the northeast corner of the American Airlines Arena property water frontage.

(ii) Regulations. In accordance with the general regulations in 165.23 of this part, no vessel shall enter the fireworks display fallout area during the enforcement period unless otherwise authorized by the U.S. Coast Guard Captain of the Port.

(iii) Enforcement period. This section becomes effective at 9 p.m. Eastern Daylight Time (EDT) and terminates at 11 p.m. EDT on June 9, 2000, unless terminated earlier by the U. S. Coast Guard Captain of the Port.

(2) Parade of sail area.—(i) Location. A temporary safety zone is established to include all waters in the Port of Miami within the turning basin at the west end of Main Channel bounded by the bridges connecting Dodge and Watson Islands with the mainland, Main Channel, Lummus Island Cut east of a line extending northward from the west end of Fisher Island, Government Cut, Bar Cut, Outer Bar Cut, and 100 yards on either side of the Bar Cut and Outer Bar Cut short range navigational aids, seaward to Miami Lighted Buoy M (LLNR 10455-895).

(ii) Regulations. In accordance with the general regulations in 165.23 of this part, entry into this zone is prohibited to all non-parade related vessels without the prior permission of the U. S. Coast Guard Captain of the Port.

(iii) Enforcement period. This section becomes effective at 10 a.m. EDT and terminates at 4 p.m. EDT on June 10, 2000, unless terminated earlier by the U.S. Coast Guard Captain of the Port.

(b) Dates. This section becomes effective at 9 p.m., EDT on June 9, 2000, and terminates at 4 p.m., EDT on June 10, 2000.

Dated: May 17, 2000.
L.J. Bowling,
Captain, U. S. Coast Guard, Captain of the Port, Miami Zone.

[FR Doc. 00-13195 Filed 5-24-00; 8:45 am]

BILLING CODE 4910-15-U